DEPARTMENT OF STATE

[Public Notice 8436]

U.S. Department of State Advisory Committee on Private International Law (ACPIL): Public Meeting on Arbitration; Correction

AGENCY: Department of State.

ACTION: Notice; correction.

SUMMARY: The Department of State published a document in the Federal Register on August 19, 2013 concerning a U.S. Department of State Advisory Committee on Private International Law (ACPIL) Public Meeting on Arbitration, to take place on September 4, 2013. The document cited incorrect Web site addresses and an incorrect email address.

FOR FURTHER INFORMATION CONTACT: Tricia Smeltzer, phone: (202) 776 8423

Correction

In the Federal Register of August 19, 2013, in FR Volume 78, page 50480, in the third paragraph of the second column, the Web site address given should read: http://www.uncitral.org/uncitral/en/commission/working_groups/2Arbitration.html. In the first paragraph of the third column, the email address that individuals should write to for pre-clearance purposes should read: pil@state.gov. In the second paragraph of the third column, the Web site address given for the Security Records System of Records Notice should read: http://www.state.gov/documents/organization/103419.pdf.

Dated: August 19, 2013.
Michael S. Coffee,
Acting Assistant Legal Adviser, Private International Law, Officer of the Legal Adviser.

[FR Doc. 2013-20652 Filed 8-22-13; 8:45 am]

BILLING CODE 4710-08-P